DEPARTMENT OF THE INTERIOR

Bureau of Land Management

[LLORW00000 L16100000.DP0000. WBSLXSS073H0000; HAG 12-0164]

Notice of Public Meeting, Eastern Washington Resource Advisory Council Meeting

AGENCY: Bureau of Land Management, Interior.

ACTION: Notice of Public Meeting.

SUMMARY: In accordance with the Federal Land Policy and Management Act of 1976 and the Federal Advisory Committee Act of 1972, the U.S. Department of the Interior, Bureau of Land Management (BLM) Eastern Washington Resource Advisory Council (EWRAC) will meet as indicated below.

DATES: May 23, 2012

SUPPLEMENTARY INFORMATION: The meeting will be open to the public. It will begin at 10 a.m. and end at 4 p.m. Members of the public will have an opportunity to address the EWRAC at 10 a.m. The meeting will be held at Big Bend Community College, 7662 N.E. Chanute Street, Moses Lake, Washington, 98837-2950. Discussion will include the Bureau of Land Management's Eastern Washington and San Juan Resource Management Plan, and the U.S. Forest Service's Colville National Forest Plan Revision.

FOR FURTHER INFORMATION CONTACT: Robert St. Clair, BLM Spokane District, 1103 N. Fancher Rd., Spokane Valley, WA 99212, or call (509) 536-1200. Persons who use a telecommunications device for the deaf (TDD) may call the Federal Information Relay Service (FIRS) at 1 (800) 877-8339 to contact the above individual during normal business hours. The FIRS is available 24 hours a day, 7 days a week, to leave a message or question with the above individual. You will receive a reply during normal business hours.

Daniel C. Picard,
Spokane District Manager.

[FR Doc. 2012-9457 Filed 4-18-12; 8:45 am]

BILLING CODE 4310-33-P